NUCLEAR REGULATORY COMMISSION

[Docket No. 50-271; License No. DPR-28]

Entergy Nuclear Operations, Inc.; Vermont Yankee Nuclear Power Station; Receipt of Request for Action Under 10 CFR 2.206

Notice is hereby given that by petition received on April 22, 2004, the New England Coalition (petitioner) has requested that the Nuclear Regulatory Commission (NRC or the Commission) take action with regard to Vermont Yankee Nuclear Power Station (Vermont Yankee). The petitioner requests that until such time as Entergy Nuclear Operations, Inc. (Entergy or the licensee) has rendered an accurate and NRC-verified account of the location, disposition, and condition of all irradiated fuel, including fuel currently loaded in the reactor core, that the NRC order a halt to all fuel movement at Vermont Yankee.

As the basis for this request, the petitioner states that because Entergy has lost control of the spent fuel inventory at Vermont Yankee, the petitioner has no confidence that Entergy did not put leaking fuel or suspected leaking fuel assemblies back into the reactor core during this refueling outage.

The request is being treated pursuant to title 10 of the Code of Federal Regulations (10 CFR) 2.206 of the Commission's regulations. The request has been referred to the Director of the Office of Nuclear Reactor Regulation. As provided by 10 CFR 2.206, appropriate action will be taken on this petition within a reasonable time. Mr. Raymond Shadis, in his capacity as the petitioner's Staff Technical Advisor, participated in a conference call with the NRC Petition Review Board (PRB) on May 5, 2004, to discuss the petition. The results of that discussion were considered in the PRB's determination regarding the petitioner's request for immediate action, and in establishing the schedule for the review of the petition. The PRB stated that the petitioner's request to stop all fuel movement at Vermont Yankee is now moot as all fuel movement had been completed by time of receipt of the petitioner's request. During the conference call, the petitioner reaffirmed to the PRB the petition's request to stop all fuel movement but stated their understanding that at the present time the request would be limited to the spent fuel pool. The petitioner stated they wanted an order issued to the licensee to do a verification of the inventory of all the special nuclear material in the spent fuel pool that is to be verified by the NRC. A copy of the petition is available for inspection at the Commission's Public Document Room (PDR), located at One White Flint North, Public File Area O1 F21, 11555 Rockville Pike (first floor), Rockville, Maryland. In addition to other publicly available records, this petition will be accessible from the Agencywide Documents Access and Management System (ADAMS) Public Electronic Reading Room on the Internet at the NRC Web site, using accession number ML041180245, at http://www.nrc.gov/reading-rm/adams.html. Persons who do not have access to ADAMS or who encounter problems in accessing the documents located in ADAMS, should contact the NRC PDR reference staff by telephone at 1-800-397-4209 or 301-415-4737, or by e-mail to pdr@nrc.gov.

Dated at Rockville, Maryland, this 28th day of May, 2004.
For the Nuclear Regulatory Commission.
Ledyard B. Marsh,
Director, Division of Licensing Project Management, Office of Nuclear Reactor Regulation.

[FR Doc. 04-13752 Filed 6-17-04; 8:45 am]

BILLING CODE 7590-01-P